FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 009831-024.

Title: New Zealand/United States Container Lines Association.

Parties: Hamburg-Sud and Hapag-Lloyd AG.

Filing Party: Wayne R. Rohde, Esq.; Sher & Blackwell LLP; 1850 M Street, NW.; Suite 900; Washington, DC 20036.

Synopsis: The amendment would remove Australia-New Zealand Direct Line and CP Ships USA, LLC as parties to the agreement and add Hapag-Lloyd as a party.

Agreement No.: 010071-032.

Title: Cruise Lines International Association Agreement.

Parties: American Cruise Lines, Inc.; Carnival Cruise Lines; Celebrity Cruises, Inc.; Costa Cruise Lines; Crystal Cruises; Cunard Line; Disney Cruise Line; Holland America Line; MSC Cruises; Norwegian Coastal Voyage, Inc./Bergen Line Services; Norwegian Cruise Line; Oceania Cruises; Orient Lines; Princess Cruises; Regent Seven Seas Cruises; Royal Caribbean International; Seabourn Cruise Line; Silversea Cruises, Ltd.; and Windstar Cruises.

Filing Party: Terry Dale, President; Cruise Lines International Association; 80 Broad Street; Suite 1800; New York, NY 10004.

Synopsis: The amendment would update the Association's membership and revise the agreement's authority to incorporate functions of the International Council of Cruise Lines under this agreement.

Agreement No.: 010955-009.

Title: ACL/H-L Reciprocal Space Charter and Sailing Agreement.

Parties: Atlantic Container Line AB and Hapag-Lloyd AG.

Filing Party: Wayne R. Rohde, Esq.; Sher & Blackwell; 1850 M Street, NW., Suite 900; Washington, DC 20036.

Synopsis: The amendment updates Hapag-Lloyd's corporate name, the parties' home office addresses, and the delegation of authority provision.

Agreement No.: 010979-043.

Title: Caribbean Shipowners Association.

Parties: Bernuth Lines, Ltd.; CMA CGM, S.A.; Crowley Liner Services, Inc.; Hapag-Lloyd AG; Interline Connection, N.V.; Seaboard Marine, Ltd.; Seafreight Line, Ltd.; Tropical Shipping and Construction Co., Ltd.; and Zim Integrated Shipping Services, Ltd.

Filing Party: Wayne R. Rohde, Esq.; Sher & Blackwell LLP; 1850 M Street, NW.; Suite 900; Washington, DC 20036.

Synopsis: The amendment would delete CP Ships as a party to the agreement, add Hapag-Lloyd, delete the discussion sections under the geographic scope, clarify the parties' authority under Article 5.A, 5.F, and 5.H, add authority for the parties to enter into joint contracts with third parties for professional services and to discuss and agree on a common position with respect to proposed governmental or industry actions, add a provision dealing with civil penalties, and make administrative changes in the agreement.

Agreement No.: 010982-039.

Title: Florida-Bahamas Shipowners and Operators Association.

Parties: Atlantic Caribbean Line, Inc.; Crowley Liner Services, Inc.; Pioneer Shipping Ltd.; Seaboard Marine, Ltd.; and Tropical Shipping and Construction Co., Ltd.

Filing Party: Wayne R. Rohde, Esq.; Sher & Blackwell LLP; 1850 M Street, NW.; Suite 900; Washington, DC 20036.

Synopsis: The amendment would delete G&G Marine as a party to the agreement, clarify the parties' authority under Article 5.A, add authority for the parties to enter into joint contracts with third parties for professional services and to discuss and agree on a common position with respect to proposed governmental or industry actions, add a provision dealing with civil penalties, revise the membership and voting provisions, and make administrative changes in the agreement.

Agreement No.: 011268-022.

Title: New Zealand/United States Discussion Agreement.

Parties: New Zealand/United States Container Lines Association; Hamburg- Süd; A.P. Moller-Maersk A/S; and Hapag-Lloyd AG.

Filing Party: Wayne R. Rohde, Esq.; Sher & Blackwell LLP; 1850 M Street, NW.; Suite 900; Washington, DC 20036.

Synopsis: The amendment would remove Australia-New Zealand Direct Line and CP Ships USA, LLC as parties to the agreement and add Hapag-Lloyd as a party.

Agreement No.: 011927-002.

Title: ITS/Hatsu MUS Slot Charter Agreement.

Parties: Italia Marittima S.p.A. and Hatsu Marine Ltd.

Filing Party: Paul M. Keane, Esq.; Cichanowicz, Callan, Keane, Vengrow & Textor, LLP; 61 Broadway; Suite 3000; New York, NY 10006-2802.

Synopsis: The amendment expands the geographic scope of the Agreement to include the East Mediterranean, specifically ports in Turkey and Malta.

Agreement No.: 011970.

Title: BBC Chartering and Logistic-Caytrans Project Services (Americas) Joint Service Agreement.

Parties: BBC Chartering & Logistic GmbH & Co. KG; Caytrans Project Services (Americas) Ltd. and Caytrans BBC.

Filing Party: Matthew J. Thomas, Esq.; Troutman Sanders LLP; 401 9th Street, NW.; Suite 1000; Washington, DC 20004-2134.

Synopsis: The agreement would authorize the parties to establish a joint service to provide a breakbulk liner service between the U.S. Gulf and East Coasts, and the Caribbean, the East Coast of Mexico, the East Coast of Central America, and the North Coast of South America. The parties request expedited review.

Agreement No.: 201172.

Title: UMS and PHA Marine Terminal Agreement.

Parties: Port of Houston Authority of Harris County, TX, and Universal Maritime Service Corporation.

Filing Party: Neal M. Mayer, Esq.; Hoppel, Mayer & Coleman; 1050 Connecticut Avenue, NW.; 10th Floor; Washington, DC 20036.

Synopsis: The agreement would authorize the parties to discuss and agree, on a voluntary and non-binding basis, matters relating to the operation of marine terminal facilities in the Houston area.

Dated: August 11, 2006.
By Order of the Federal Maritime Commission.
Bryant L. VanBrakle,
Secretary.

[FR Doc. E6-13461 Filed 8-15-06; 8:45 am]

BILLING CODE 6730-01-P